Title 3—

The President

Proclamation 7468 of September 19, 2001

To Modify Duty-Free Treatment Under the Generalized System of Preferences

By the President of the United States of America

A Proclamation

1. Section 503(c)(2)(C) of the Trade Act of 1974, as amended (the “1974 Act”) (19 U.S.C. 2463(c)(2)(C)), provides that a country that is no longer treated as a beneficiary developing country with respect to an eligible article for purposes of the Generalized System of Preferences (GSP) because imports of the article from that country exceeded the competitive need limitations in section 503(c)(2)(A) of the 1974 Act (19 U.S.C. 2463(c)(2)(A)) may be redesignated as a beneficiary developing country with respect to the article if imports of the article from that country did not exceed those limitations during the preceding calendar year.

2. Pursuant to section 503(c)(2)(C) of the 1974 Act, I have determined that Indonesia should be redesignated as a beneficiary developing country with respect to certain eligible articles that previously had been imported in quantities exceeding the competitive need limitations of section 503(c)(2)(A).

3. Section 604 of the 1974 Act (19 U.S.C. 2483), authorizes the President to embody in the Harmonized Tariff Schedule of the United States (HTS) the substance of the relevant provisions of that Act, and of other acts affecting import treatment, and actions thereunder, including the removal, modification, continuance, or imposition of any rate of duty or other import restriction.

NOW, THEREFORE, I, GEORGE W. BUSH, President of the United States of America, acting under the authority vested in me by the Constitution and the laws of the United States of America, including title V and section 604 of the 1974 Act, do proclaim that:

(1) In order to provide that Indonesia, which has not been treated as a beneficiary developing country with respect to certain eligible articles, should be redesignated as a beneficiary developing country with respect to those articles for purposes of the GSP:

(a) general note 4(d) to the HTS is modified as provided in paragraph (1) of the Annex to this proclamation; and

(b) the Rates of Duty 1-Special subcolumn for each of the HTS subheadings enumerated in paragraph (2) of the Annex to this proclamation is modified as provided in such paragraph.

(2) Any provisions of previous proclamations and Executive Orders that are inconsistent with the actions taken in this proclamation are superseded to the extent of such inconsistency.

(3) The modifications made by the Annex to this proclamation shall be effective with respect to articles entered, or withdrawn from warehouse for consumption, on or after the date of publication of this proclamation in the Federal Register.

IN WITNESS WHEREOF, I have hereunto set my hand this nineteenth day of September, in the year of our Lord two thousand one, and of the Independence of the United States of America the two hundred and twenty-sixth.

B

Billing code 3195-01-P

[FR Doc. 01-23984

Filed 09-21-01; 8:45 am]

Billing code 3190-01-C